DEPARTMENT OF TRANSPORTATION

Federal Aviation Administration

14 CFR Part 97

[Docket No. 30218; Amdt. No. 2025]

Standard Instrument Approach Procedures; Miscellaneous Amendments

AGENCY: Federal Aviation Administration (FAA), DOT.

ACTION: Final rule.

SUMMARY: This amendment establishes, amends, suspends or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matters incorporated by reference in the amendment is as follows:

For Examination—1. FAA Rules Docket, FAA Headquarters Building, 800 Independence Avenue, SW., Washington, DC 20591;

2. The FAA Regional Office of the region in which the affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice of Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on December 8, 2000.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

§§ 97.23, 97.25, 97.27, 97.29, 97.31, 97.33, 97.35 [Amended]

By amending: § 97.23 VOR, VOR/DME,VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective December 28, 2000

Greeley, CO, Greeley-Weld County, ILS RWY 34, Orig

Holyoke, CO, Holyoke, NDB RWY 14, Orig

Holyoke, CO, Holyoke, NDB RWY 32, Orig

Wadena, MN, Wadena Muni, RNAV RWY 34, Orig

* * * Effective January 25, 2001

Barrow, AK, Wiley Post—Will Rogers memorial, ILS/DME RWY 6, Amdt 2B, CANCELLED

Barrow, AK, Wiley Post—Will Rogers memorial, ILS RWY 6, Orig

Arkadelphia, AR, Dexter B. Florence Memorial Field, GPS RWY 4, Orig-A

Blytheville, AR, Blytheville Muni, GPS RWY 36, Orig-A

De Queen, AR, J. Lynn Helms Sevier County, GPS RWY 8, Orig-A

Harrison, AR, Boone County, NDB RWY 18, Amdt 5D

Harrison, AR, Boone County, GPS RWY 18, Orig-A

Helena/West Helena, AR, Thompson-Robbins, GPS RWY 17, Orig-A

Hot Springs, AR, Memorial Field, Zaple VOR RWY 5, Amdt 4A

Hot Springs, AR, Memorial Field, NDB RWY 5, Amdt 7B

Newport, AR, Newport Muni, GPS RWY 18, Orig-B

Newport, AR, Newport Muni, GPS RWY 36, Orig-B

Fairfield, IA, Fairfield Muni, RNAV (GPS) RWY 18, Orig

Fairfield, IA, Fairfield Muni, VOR/DME RNAV RWY 18, Amdt 1C, CANCELLED

Oelwein, IA, Oelwein Muni, RNAV (GPS) RWY 13, Orig

Oelwein, IA, Oelwein Muni, VOR/DME RNAV OR GPS RWY 13, Amdt 2A, CANCELLED

Alexandria, LA, Esler Regional, VOR OR GPS RWY 32, Amdt 13, CANCELLED

De Quincy, LA, De Quincy Industrial Airpark, GPS RWY 15, Orig-A

De Quincy, LA, De Quincy Industrial Airpark, GPS RWY 33, Orig-A

Hammond, LA, Hammond Muni, GPS RWY 31, Orig-B

Houma, LA, Houma-Terreboone, VOR/DME OR GPS RWY 30, Amdt 11C

Houma, LA, Houma-Terreboone, GPS RWY 18, Orig-A

New Iberia, LA, Acadiana Regional, NDB OR GPS RWY 34, Amdt 8B

Grants, NM, Grants-Milan Muni, GPS RWY 31, Orig-C

Las Vegas, NM, Las Vegas, Muni, GPS RWY 32, Orig-A

Santa Fe, NM, Santa Fe Muni, NDB RWY 2, Amdt 4A

Garrison, ND, Garrison Muni, RNAV (GPS) RWY 13, Orig

Garrison, ND, Garrison Muni, RNAV (GPS) RWY 31, Orig

Guymon, OK, Guymon Muni, GPS RWY 18, Orig, CANCELLED

Guymon, OK, Guymon Muni, RNAV (GPS) RWY 18, Orig

Williamsport, PA, Williamsport Regional, VOR/DME RNAV-A, Orig, CANCELLED

Pulaski, TN, Abernathy Field, NDB OR GPS RWY 15, Amdt 4, CANCELLED

Pulaski, TN, Abernathy Field, RNAV (GPS) RWY 15, Orig

Pulaski, TN, Abernathy Field, RNAV (GPS) RWY 33, Orig

Big Spring, TX, Big Spring McMahon-Wrinkle, VOR/DME OR GPS RWY 17, Amdt 7B

Bonham, TX, Jones Field, NDB RWY 17, Amdt 4

Borger, TX, Hutchinson County, VOR OR GPS RWY 17, Amdt 8A

Dallas, TX, Redbird, VOR/DME OR GPS RWY 17, Orig-A

Dumas, TX, Moore County, VOR/DME RNAV RWY 19, Amdt 3D

Dumas, TX, Moore County, GPS RWY 19, Orig-A

Fort Worth, TX, Fort Worth Meacham Intl, NDB OR GPS RWY 16L, Amdt 5A

Fort Worth, TX, Fort Worth Spinks, VOR/DME RNAV RWY 35L, Orig-A

Hamilton, TX, Hamilton Muni, NDB RWY 36, Orig-A

Hamilton, TX, Hamilton Muni, GPS RWY 36, Orig-A

Marfa, TX, Marfa Muni, VOR RWY 30, Amdt 5A

Marfa, TX, Marfa Muni, GPS RWY 30, Orig-A

Mesquite, TX, Mesquite Metro, NDB OR GPS RWY 17, Amdt 5A

Midland, TX, Midland Airpark, VOR/DME OR GPS RWY 25, Amdt 3A

New Braunfels, TX, New Braunfels Muni, GPS RWY 13, Orig-B

Palacios, TX, Palacios Muni, GPS RWY 13, Orig-A

Seminole, TX, Gaines County, NDB RWY 35, Amdt 1

Sinton, TX, San Patricio County, VOR/DME RWY 14, Amdt 1A

Sinton, TX, San Patricio County, VOR/DME RWY 32, Amdt 8A

Morgantown, WV, Morgantown Muni—Walter L. Bill Hart Field, RNAV (GPS) RWY 18, Amdt 1

Madison, WI, Dane County Regional—Truax Field, RADAR-1, Amdt 16

[FR Doc. 00-31928 Filed 12-13-00; 8:45 am]

BILLING CODE 4910-13-M